DEPARTMENT OF ENERGY

Federal Energy Regulatory Commission

[Docket No. CP03-2-000]

Energy West Development, Inc.; Notice of Intent To Prepare an Environmental Assessment for the Proposed Shoshone Pipeline Conversion Project and Request for Comments on Environmental Issues

November 19, 2002.

The staff of the Federal Energy Regulatory Commission (FERC or Commission) will prepare an environmental assessment (EA) that will discuss the potential environmental impacts of a proposal by Energy West Development, Inc. (EWD) to convert a 30-mile-long segment of an existing pipeline to natural gas service.¹ This pipeline, referred to as the “Shoshone Pipeline,” is 6 inches in diameter and extends between a point north of Cody, Parker County, Wyoming, and a point northwest of Warren, Carbon County, Montana.² This EA will be used by the Commission in its decision-making process to determine whether the project is in the public convenience and necessity.

¹ EWD's application was filed with the Commission under Section 7 of the Natural Gas Act and part 157 of the Commission's regulations.

² The pipeline was constructed in 1960 to transport liquid petroleum products. It was previously owned by Montana Power Company, and has not been in use for at least the last 7 years.

A fact sheet prepared by the FERC entitled “An Interstate Natural Gas Facility On My Land? What Do I Need To Know?” was attached to the project notice EWD provided to affected landowners. This fact sheet addresses a number of typically asked questions, including the use of eminent domain and how to participate in the Commission's proceedings. It is available for viewing on the FERC Internet website (http://www.ferc.gov).

Summary of the Proposed Project

EWD wants to convert about 30 miles of an existing pipeline in northern Wyoming and southern Montana to natural gas service. The conversion would enable EWD to transport about 13,500 million Btus of natural gas per day between an interconnection with Energy West Wyoming at the north city gate of Cody, Wyoming, and an interconnection with a pipeline owned by Montana Power Company northwest of Warren, Montana. The general location of the project facilities is shown in appendix 1.³ EWD states that it already owns and possesses all necessary rights-of-way for operation of the Shoshone Pipeline.

³ The appendices referenced in this notice are not being printed in the Federal Register. Copies are available on the Commission's website at the “FERRIS” link or from the Commission's Public Reference and Files Maintenance Branch, 888 First Street, NE., Washington, DC 20426, or call (202) 502-8371. For instructions on connecting to FERRIS refer to the last page of this notice. Copies of the appendices were sent to all those receiving this notice in the mail.

The only construction associated with the conversion project would be the installation of a metering facility at the northern terminus of the pipeline. The metering facilities would be located in an area measuring about 30 feet wide by 80 feet long on EWD's existing right-of-way in section 17, township 8 south, range 25 east in Carbon County, Montana. The facilities would consist of a meter, related aboveground equipment, and an aboveground skid-mounted building to house electronics. The meter itself would be installed between two existing flanged risers. The area would be fenced and gravel applied to the ground surface. No excavations would be required.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our” refer to the environmental staff of the Office of Energy Projects (OEP).

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First Street, NE., Room 1A, Washington, DC 20426.

• Label one copy of the comments for the attention of Gas 1, PJ-11.1.

• Reference Docket No. CP03-2-000.

• Mail your comments so that they will be received in Washington, DC on or before December 20, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor, you must file a motion to intervene according to Rule 214 of the Commission's Rules of Practice and Procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

This notice is being sent to individuals, organizations, and government entities interested in and/or potentially affected by the proposed project. Additional information about the project is available from the Commission's Office of External Affairs, at 1-866-208-FERC or on the FERC Internet website (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet website also provides access to the texts of formal documents issued by the Commission, such as orders, notices, and rulemakings.

Linwood A. Watson, Jr.,
Deputy Secretary.

[FR Doc. 02-29855 Filed 11-22-02; 8:45 am]

BILLING CODE 6717-01-P